DEPARTMENT OF STATE

[Public Notice 9372]

In the Matter of the Designation of the Libyan Islamic Fighting Group, Also Known as LIFG, as a “Terrorist Organization” Pursuant to Section 212(a)(3)(B)(vi)(II) of the Immigration and Nationality Act, as Amended

Acting under the authority of Section 212(a)(3)(B)(vi)(II) of the INA, I hereby revoke the designation of the Libyan Islamic Fighting Group also known as LIFG as a “terrorist organization” under Section 212(a)(3)(B)(vi)(II) of the INA.

This determination shall be published in the Federal Register.

Dated: November 30, 2015.
John F. Kerry,
Secretary of State.

[FR Doc. 2015-31035 Filed 12-8-15; 8:45 am]

BILLING CODE 4710-AD-P